DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 73 FR 62506-07, dated October 21, 2008) is amended to reflect the reorganization of the Division of Healthcare Quality Promotion within the National Center for Preparedness, Detection, and Control of Infectious Diseases, Coordinating Center for Infectious Diseases, Centers for Disease Control and Prevention.

Section C-B, Organization and Functions, is hereby amended as follows: After item (5) of the functional statement for the Division of Healthcare Quality Promotion (CVKD), insert the following and renumber the remaining items accordingly: (6) monitors vaccine safety and conducts scientific research to evaluate the safety of all currently available and new vaccines;

After item (13) of the functional statement for the Office of the Director (CVKD1), insert the following and renumber the remaining items accordingly: (14) coordinates vaccine safety activities at CDC; (15) leads CDC activities to monitor vaccine safety; (16) leads CDC's scientific research to evaluate the safety of all currently available and new vaccines.

Dated: October 5, 2009.
William P. Nichols,
Acting Chief Operating Officer, Centers for Disease Control and Prevention.

[FR Doc. E9-24672 Filed 10-13-09; 8:45 am]

BILLING CODE 4160-18-M